DEPARTMENT OF ENERGY

10 CFR Part 300

RIN 1901-AB11

Guidelines for Voluntary Greenhouse Gas Reporting

AGENCY: Office of Policy and International Affairs, U.S. Department of Energy.

ACTION: Interim final rule and draft technical guidelines; extension of comment period.

SUMMARY: On March 24, 2005, the Department of Energy published Interim Final General Guidelines (70 FR 15169) governing the Voluntary Reporting of Greenhouse Gases Program established by section 1605(b) of the Energy Policy Act of 1992 and a notice of availability and opportunity to comment on draft technical guidelines (70 FR 15164) referenced by the general guidelines. These notices announced that the closing date for receiving public comments on both documents would be May 23, 2005. Several organizations requested that the comment period be extended to allow additional time for understanding and preparing written comments on the Interim Final General Guidelines and draft Technical Guidelines. The Department has agreed to extend the comment period to June 22, 2005.

DATES: Comments must be received on or before June 22, 2005.

ADDRESSES: Please submit written comments to: 1605bguidelines.comments@hq.doe.gov. Alternatively, written comments may be sent to: Mark Friedrichs, PI-40; Office of Policy and International Affairs, U.S. Department of Energy, 1000 Independence Ave., SW., Washington, DC 20585. You may review comments received by DOE, the record of the public workshop held on April 26 and 27, 2005, and other related material at the following Web site: http://www.pi.energy.gov/enhancingGHGregistry. If you lack access to the Internet, you may access this Web site by visiting the DOE Freedom of Information Reading Room, 1000 Independence Avenue, SW., Washington, DC.

FOR FURTHER INFORMATION CONTACT: Mark Friedrichs, PI-40, Office of Policy and International Affairs, U.S. Department of Energy, 1000 Independence Ave., SW., Washington, DC 20585, or e-mail: 1605bguidelines.comments@hq.doe.gov. (Please indicate if your e-mail is a request for information, rather than a public comment.)

Issued in Washington, DC, on May 3, 2005.
David W. Conover,
Principal Deputy Assistant Secretary, Policy and International Affairs.

[FR Doc. 05-9192 Filed 5-6-05; 8:45 am]

BILLING CODE 6450-01-P